ENVIRONMENTAL PROTECTION AGENCY

40 CFR Part 52

[MD117-3070; FRL-7021-2]

Approval and Promulgation of Air Quality Implementation Plans; Maryland; RACT for the Control VOC Emissions from Iron and Steel Production Installations

AGENCY: Environmental Protection Agency (EPA).

ACTION: Proposed rule.

SUMMARY: EPA is proposing to approve a State Implementation Plan (SIP) revision submitted by the State of Maryland. The intended effect of this action is to propose approval of this revision, which establishes reasonably available control technology (RACT) for the control of emissions of volatile organic compounds (VOCs) from iron and steel production installations in Maryland. The Maryland Department of the Environment submitted the SIP revision on January 8, 2001. The revision applies to integrated steel mills in Maryland and provides for limits on emissions of VOCs from these facilities. Currently, there is only one integrated steel mill in Maryland, the Bethlehem Steel Corporation located at Sparrows Point in Baltimore County. Volatile organic compounds are a precursor of ground-level ozone, commonly known as smog. EPA is proposing to approve this revision in accordance with the Clean Air Act (CAA).

DATES: Written comments must be received on or before August 30, 2001.

ADDRESSES: Written comments may be mailed to David L. Arnold, Chief, Air Quality Programs and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; Maryland Department of the Environment, 2500 Broening Highway, Baltimore, Maryland, 21224. We recommend that you contact Catherine Magliocchetti, Chemical Engineer, at (215) 814-2174 if you wish to visit the Region III office to review the docket.

FOR FURTHER INFORMATION CONTACT: Catherine L. Magliocchetti, Chemical Engineer, at (215) 814-2174, or by e-mail at magliocchetti.catherine@epa.gov.

SUPPLEMENTARY INFORMATION: Throughout this document, “we,” “us,” and “our” are used to refer to the Environmental Protection Agency (EPA). This notice is organized as follows:

I. What is EPA Approving in this Action?

II. Why Did Maryland Submit a Regulation to Require RACT for the Control VOC Emissions from Iron and Steel Production Installations to EPA as a SIP Revision?

III. Who is Affected by Maryland's RACT Regulation to Control VOCs from Iron and Steel Production?

IV. What Does the Maryland Regulation Require as RACT to Control VOCs from Iron and Steel Production Installations?

V. Where is the Maryland RACT Regulation to Control VOCs from Iron and Steel Production Installations Codified?

VI. What Public Review Procedures Did Maryland Conduct?

VII. EPA's Proposed Rulemaking Action.

VIII. Administrative Requirements.

I. What is EPA Approving in this Action?

We are approving Code of Maryland Regulations (COMAR) 26.11.10 Control of Iron and Steel Production Installations, that establishes and imposes RACT to control emissions of VOCs from steel mill sinter plants in Maryland. Our approval will make the Maryland Iron and Steel Production regulation part of the federally enforceable SIP under the Clean Air Act (CAA).

II. Why Did Maryland Submit a Regulation to Require RACT for the Control VOC Emissions from Iron and Steel Production Installations to EPA as a SIP Revision?

Baltimore County is classified under the CAA as a severe nonattainment area for ozone. The CAA requires that RACT be imposed to control VOC emissions from major sources. In a severe ozone nonattainment area, such as Baltimore County, a major source of VOCs is defined as a source with the potential to emit 25 tons per year (TPY) or more. The CAA requires that RACT be implemented by May of 1995. The production of iron and steel emits significant amounts of VOCs from the sintering process, hot and cold rolling operations, the continuous caster process and production furnaces at steel mills. Maryland has identified reductions in emissions from these processes as making an important contribution toward improving air quality and attaining the national ambient ozone air quality standard to protect public health.

III. Who is Affected by Maryland's RACT Regulation to Control VOCs from Iron and Steel Production?

The SIP revision requirements are applicable to a person who owns or operates an installation that has actual VOC emissions of 20 pounds or more per day located at an iron and steel production facility that has the potential to emit total plant wide VOC emissions of 25 tons or more per year. Currently, the only integrated steel mill in Maryland is the Bethlehem Steel Corporation located in Sparrows Point in Baltimore County. This facility is subject to COMAR 26.11.10 Control of Iron and Steel Production Installations.

IV. What does the Maryland Regulation Require as RACT to Control VOCs from Iron and Steel Production Installations?

The Maryland regulation establishes controls on: (A) sinter plant operations, (B) hot and cold rolling operations, (C) continuous casters operations and (D) production furnaces at integrated steel mills as follows:

A. For sinter plant operations, the regulation requires compliance with an emission standard of 0.25 pounds of VOC per ton of sinter produced, calculated on a daily average basis; interim stack testing, and the installation of a continuous emission monitoring system (CEM) system on the sinter plant discharge stacks.

B. For hot and cold rolling operations, the regulation requires use of low volatility oil with a vapor pressure of one millimeter of mercury or less at 25 degrees Celsius.

C. For continuous casters operations, the regulation requires the oil and grease to be skimmed off the cooling water at the waste water treatment facility before being recycled back to the process, to prevent evaporation of the oil.

D. For production furnaces, the regulation requires that “good management practices” are followed for the operation of such furnaces at integrated steel mills.

V. Where is the Maryland RACT Regulation to Control VOCs from Iron and Steel Production Installations Codified?

Maryland codified its RACT regulation to control VOC emissions from iron and steel production installations at COMAR 26.11.10. The regulation was adopted on December 5, 2000 and became effective on December 25, 2000. The proposed rule was published in the Maryland Register on October 20, 2000, and the final rule was published on December 15, 2000.

VI. What Public Review Procedures Did Maryland Conduct?

The proposed rule was published for comment in the Maryland Register on October 20, 2000. A public hearing was held on November 21, 2000, and adequate public notice of the hearing was provided in six major newspapers within the State of Maryland. The Maryland Department of the Environment (MDE) received written comments from EPA and from the Bethlehem Steel Corporation. EPA has determined that Maryland adequately responded to these comments prior to adoption of the final regulation.

VII. EPA Rulemaking Action

EPA is proposing to approve the SIP revision submitted by MDE on SIP January 8, 2001, consisting of COMAR 26.11.10 Control of Iron and Steel Production Installations. This regulation establishes RACT to control VOC emissions from iron and steel production installations, including sinter plants, hot and cold rolling operations, continuous casters, and production furnaces. EPA is proposing approval because we concur that the control requirements established and imposed by COMAR 26.11.10 Control of Iron and Steel Production Installations constitute RACT to reduce VOCs. We are soliciting public comments on the issues discussed in this document or on other relevant matters. These comments will be considered before taking final action. Interested parties may participate in the Federal rulemaking procedure by submitting written comments to the EPA Regional office listed in the ADDRESSES section of this document.

VIII. Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (See 66 FR 28355, May 22, 2001). This action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal standard, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule to approve Maryland's RACT regulation to control VOCs from iron and steel production installations do not impose an information collection burden under the provisions of the Paperwork Reduction Act of 1995 (44 U.S.C. 3501 et seq.).

List of Subjects in 40 CFR Part 52

Environmental protection, Air pollution control, Carbon monoxide, Hydrocarbons, Intergovernmental relations, Ozone, Reporting and recordkeeping requirements.

Authority: 42 U.S.C. 7401 et seq.

Dated: July 20, 2001.
Thomas C. Voltaggio,
Acting Regional Administrator, Region III.

[FR Doc. 01-19046 Filed 7-30-01; 8:45 am]

BILLING CODE 6560-50-P